DEPARTMENT OF HOMELAND SECURITY

Federal Emergency Management Agency

[Docket ID: FEMA-2007-0007]

National Response Framework

AGENCY: Federal Emergency Management Agency, DHS.

ACTION: Notice of availability.

SUMMARY: This document provides notice of the availability of the final National Response Framework (NRF) which replaces the National Response Plan (NRP) that was issued in February 2005 and finalizes the draft version of the NRF which FEMA published for public comment in September 2007. The NRF builds on the NRP and, using the comprehensive framework of the National Incident Management System (NIMS), serves as a guide to how the nation conducts all-hazards incident management.

DATES: FEMA issued the NRF on January 22, 2008. The NRF is effective March 22, 2008.

ADDRESSES: The NRF is available online in the NRF Resource Center located at http://www.fema.gov/NRF. The draft and final NRF, all related Federal Register Notices, and all public comments received during the comment period are available at www.regulations.gov under Docket ID FEMA-2007-0007. You may also view a hard copy of the NRF at the Office of Chief Counsel, Federal Emergency Management Agency, Room 835, 500 C Street, SW., Washington, DC 20472.

FOR FURTHER INFORMATION CONTACT: Mr. Tracy Haynes, Acting National Response Framework Branch Chief, Federal Emergency Management Agency, 999 E Street, NW., Washington, DC 20463, 202-646-4218.

SUPPLEMENTARY INFORMATION: The National Response Framework (NRF) is applicable to all Federal departments and agencies that may be requested to provide assistance or conduct operations in the context of actual or potential disasters and includes mechanisms for the coordination and implementation of a wide variety of incident management and emergency assistance activities including Federal support to State, local, and tribal authorities; interaction with private-sector organizations; and the coordinated, direct exercise of Federal authorities, when appropriate.

By adopting the term “framework” within the title, the NRF is now more in keeping with its intended purpose, specifically, simplifying the language, presentation and content; clarifying its national focus; articulating the five principles of response doctrine; and methodically describing the who, what and how of emergency preparedness and response. The NRF explains the common discipline and structures that have been exercised and matured at the local, State, and national levels over time. It captures key lessons learned from Hurricanes Katrina and Rita, particularly how the Federal Government is organized to support communities and States in catastrophic incidents.

The Federal Emergency Management Agency (FEMA) received numerous comments on the draft NRF, which FEMA published for public comment in September 2007. The final version reflects many changes made as a result of those comments. The final NRF is available online in the NRF Resource Center located at http://www.fema.gov/NRF or http://www.fema.gov/emergency/NRF, and the docket for this notice at www.regulations.gov (Docket ID FEMA-2007-0007).

Authority: Homeland Security Act of 2002, as amended, 6 U.S.C. 101 et seq., Homeland Security Presidential Directive-5, Management of Domestic Incidents.

Dated: January 22, 2008.
R. David Paulison,
Administrator, Federal Emergency Management Agency.

[FR Doc. E8-1399 Filed 1-25-08; 8:45 am]

BILLING CODE 9110-21-P